FEDERAL COMMUNICATIONS COMMISSION

47 CFR Part 64

[CG Docket No. 02-386; FCC 05-29]

Rules and Regulations Implementing Minimum Customer Account Record Exchange Obligations on All Local and Interexchange Carriers

AGENCY: Federal Communications Commission.

ACTION: Final rule; announcement of effective date.

SUMMARY: In this document, the Commission announces that the Office of Management and Budget (OMB) has approved for three years the information collection requirements contained in the Rules and Regulations Implementing Minimum Customer Account Record Exchange Obligations on All Local and Interexchange Carriers, Report and Order and Further Notice of Proposed Rulemaking. The information collections contained in the Report and Order and the proposed information collections contained in the Further Notice of Proposed Rulemaking were approved by OMB on August 30, 2005. It is stated in the Report and Order that the Commission will publish a document in the Federal Register announcing the effective date of these rules.

DATES: The rules published at 70 FR 32258, June 2, 2005, are effective September 21, 2005.

FOR FURTHER INFORMATION CONTACT: Lisa Boehley, Policy Division, Consumer & Governmental Affairs Bureau, at (202) 418-2512.

SUPPLEMENTARY INFORMATION: This document announces that OMB has approved for three years the information collection requirements contained in Rules and Regulations Implementing Minimum Customer Account Record Exchange Obligations on All Local and Interexchange Carriers, Report and Order and Further Notice of Proposed Rulemaking, FCC 05-29 published at 70 FR 32258, June 2, 2005. The information collections were approved by OMB on August 30, 2005. OMB Control Number 3060-1084. The Commission publishes this notice of the effective date of the rules. If you have any comments on the burden estimates listed below, or how we can improve the collections and reduce any burdens caused thereby, please write to Leslie F. Smith, Federal Communications Commission, Room 1-A804, 445 12th Street, SW., Washington, DC 20554. Please include the OMB Control Number 3060-1084, in your correspondence. We will also accept your comments regarding the Paperwork Reduction Act aspects of the collections via the Internet, if you send them to Leslie.Smith@fcc.gov or you may call (202) 418-0217.

To request materials in accessible formats for people with disabilities (Braille, large print, electronic files, audio format), send an e-mail to fcc504@fcc.gov or call the Consumer & Governmental Affairs Bureau at (202) 418-0530 (voice), (202) 418-0432 (TTY).

Synopsis

As required by the Paperwork Reduction Act of 1995 (44 U.S.C. 3507), the FCC is notifying the public that it received approval from OMB on August 30, 2005, for the collections of information contained in the Commission's Rules and Regulations Implementing Minimum Customer Account Record Exchange Obligations on All Local and Interexchange Carriers, Report and Order and Further Notice of Proposed Rulemaking. The total annual reporting burden associated with these collections of information, including the time for gathering and maintaining the collections of information, is estimated to be: 1,778 respondents, a total annual hourly burden of 44,576 hours, and $1,114,400 in total annual costs. Under 5 CFR 1320, an agency may not conduct or sponsor a collection of information unless it displays a current valid OMB Control Number.

No person shall be subject to any penalty for failing to comply with a collection of information subject to the Paperwork Reduction Act that does not display a valid OMB Control Number. The foregoing notice is required by the Paperwork Reduction Act of 1995, Public Law 104-13, October 1, 1995, 44 U.S.C. 3507.

List of Subjects in 47 CFR Part 64

Reporting and recordkeeping requirements, telecommunications, telephone.

Federal Communications Commission.
Marlene H. Dortch,
Secretary.

[FR Doc. 05-18592 Filed 9-20-05; 8:45 am]

BILLING CODE 6712-01-P